DEPARTMENT OF COMMERCE

International Trade Administration

[A-427-602]

Brass Sheet and Strip From France: Notice of Rescission of Antidumping Duty Administrative Review; 2013-2014

AGENCY: Enforcement and Compliance, International Trade Administration, Department of Commerce.

SUMMARY: The Department of Commerce (the Department) is rescinding the administrative review of the antidumping duty order on brass sheet and strip from France. The period of review is March 1, 2013, through February 28, 2014.

DATES: Effective Date: August 11, 2014.

FOR FURTHER INFORMATION CONTACT: Steve Bezirganian, AD/CVD Operations, Office VI, Enforcement and Compliance, International Trade Administration, U.S. Department of Commerce, 14th Street and Constitution Avenue NW., Washington, DC 20230; telephone: (202) 482-1131.

SUPPLEMENTARY INFORMATION:

Background

On March 3, 2014, the Department of Commerce (the Department) published in the Federal Register a notice of “Opportunity to Request Administrative Review” of the antidumping duty order on brass sheet and strip from France for the period of review (POR) of March 1, 2013, through February 28, 2014.¹ The Department received a timely request from GBC Metals, LLC, of Global Brass and Copper, Inc., dba Olin Brass, Heyco Metals, Inc., Aurubis Buffalo, Inc., PMX Industries, Inc., and Revere Copper Products, Inc. (the Petitioners) for an administrative review of the antidumping duty order on brass sheet and strip from France with respect to two companies, Griset SA and KME France.² On April 30, 2014, the Department published a notice of initiation of an administrative review of the antidumping duty order on brass sheet and strip from France with respect to Griset SA and KME France.³

¹ See Antidumping or Countervailing Duty Order, Finding, or Suspended Investigation; Opportunity to Request Administrative Review, 79 FR 11757 (March 3, 2014).

² See letter from the Petitioners' to the Secretary of Commerce entitled “Brass Sheet and Strip from France,” dated March 31, 2014.

³ See Initiation of Antidumping and Countervailing Duty Administrative Reviews and Request for Revocation in Part, 79 FR 24398 (April 30, 2014).

The Department stated in its initiation of this review that it intended to rely on U.S. Customs and Border Protection (CBP) data to select respondents.⁴ However, our review of the CBP database, with respect to the companies for which this review was requested, showed no entries of subject merchandise during the POR. On May 20, 2014, we released the results of our CBP data query, and invited interested parties to comment on the results of that query.⁵ We received no comments on the results of that query. On July 14, 2014, the Petitioners submitted a letter withdrawing their request for review of the aforementioned companies.⁶

⁴ Id.

⁵ See Memorandum from Mark Flessner to the File entitled, “Brass Sheet and Strip from France: Placement on the Record of Results of Inquiry to U.S. Customs and Border Protection for 2013-2014 Period of Review,” dated May 20, 2014.

⁶ See letter from the Petitioners to the Secretary of Commerce entitled, “Brass Sheet and Strip from France,” dated July 14, 2014.

Rescission of Review

Section 351.213(d)(1) of the Department's regulations stipulates that the Secretary will rescind an administrative review under this section, in whole or in part, if a party that requested a review withdraws the request within 90 days of the date of publication of notice of initiation of the requested review. As the only parties that requested a review (the Petitioners) withdrew the request within 90 days of the date of publication of notice of initiation of the requested review, we are rescinding this review of the antidumping duty order on brass sheet and strip from France pursuant to 19 CFR 351.213(d)(1).

Assessment

The Department will instruct U.S. Customs and Border Protection (CBP) to assess antidumping duties on all appropriate entries. Antidumping duties shall be assessed at rates equal to the cash deposit of estimated antidumping duties required at the time of entry or withdrawal from warehouse, for consumption, in accordance with 19 CFR 351.212(c)(1)(i). The Department intends to issue appropriate assessment instructions directly to CBP 15 days after publication of this notice.

Notifications

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 751(a)(1) of the Tariff Act of 1930, as amended, and 19 CFR 351.213(d)(4).

Dated: August 1, 2014.
Christian Marsh,
Deputy Assistant Secretary for Antidumping and Countervailing Duty Operations.

[FR Doc. 2014-18956 Filed 8-8-14; 8:45 am]

BILLING CODE 3510-DS-P